DEPARTMENT OF STATE

[Public Notice: 10697]

Notice of Public Meeting of the International Telecommunication Advisory Committee and Preparations for Upcoming International Telecommunications Meetings

This notice announces a meeting of the Department of State's International Telecommunication Advisory Committee (ITAC). The ITAC will meet on Thursday March 28, 2019 at AT&T 1120 20th Street NW, Washington, DC 20036 at 2 p.m., to review the results of international telecommunication policy related activities since the October 2018 ITAC, and discuss preparations for upcoming multilateral engagements. The meeting will focus on the following topics:

1. Results of the ITU Plenipotentiary (PP-18)

2. Inter-American Telecommunication Commission (CITEL) Meetings

3. ITU Council working groups

4. ITU Telecommunication Standardization Sector (ITU-T) Meetings

5. ITU Radiocommunication Sector (ITU-R) Meetings

6. ITU Development Sector (ITU-D) Meetings

7. World Radio Conference (WRC-19) Preparations

8. Asia Pacific Economic Cooperation Telecommunications Working Group 59 (TEL 59)

9. Organization for Economic Cooperation and Development (OECD) Committee on Digital Economy Policy (CDEP)

10. G20 Digital Economy Task Force

11. G7 Innovation/Information and Communication Technologies (ICT) Track

Attendance at the ITAC meeting is open to the public as seating capacity allows. The public will have an opportunity to provide comments at this meeting at the invitation of the chair. Persons wishing to request reasonable accommodation during the meeting should send their requests to ITAC@state.gov no later than March 15, 2019. Requests made after that time will be considered, but might not be able to be accommodated.

Further details on this ITAC meeting will be announced through the Department of State's email list, ITAC@lmlist.state.gov. Use of the ITAC list is limited to meeting announcements and confirmations, distribution of agendas and other relevant meeting documents. The Department welcomes any U.S. citizen or legal permanent resident to remain on or join the ITAC listserv by registering by email via ITAC@state.gov and providing his or her name, email address, telephone contact and the company, organization, or community that he or she is representing, if any. The Department finds an exceptional circumstance for this notice to publish less than 15 days prior to the meeting, due to administrative issues at the Office of the Federal Register that were outside the control of the Department.

Please send all inquiries to ITAC@state.gov.

Franz J. Zichy,
Designated Federal Officer, Multilateral Affairs International Communications and Information Policy, U.S. Department of State.

[FR Doc. 2019-05364 Filed 3-20-19; 8:45 am]

BILLING CODE 4710-07-P